DEPARTMENT OF ENERGY

Federal Energy Regulatory Commission

[Docket No. RP03-352-000]

Southern Star Central Gas Pipeline, Inc.; Notice of Proposed Changes in FERC Gas Tariff

April 30, 2003.

Take notice that on April 25, 2003, Southern Star Central Gas Pipeline, Inc. (Southern Star Central) tendered for filing, as part of its FERC Gas Tariff, Original Volume No. 1, the following tariff sheets to become effective May 1, 2003:

Original Sheet No. 0 through Original Sheet No. 514

Southern Star states that the purpose of this filing is to restate Southern Star's FERC Gas Tariff, Original Volume No. 1 to reflect its name change to Southern Star Central Gas Pipeline, Inc. rather than Williams Gas Pipelines Central, Inc. as currently on file with the Commission. The instant filing reflects the change to Southern Star, the repagination of tariff sheets and minor modifications to the text of various tariff sheets to reflect the repagination.

Southern Star states that the instant filing makes no changes to the Rates, Rate Schedules, General Terms and Conditions or Form of Service Agreements. Southern Star states that it has requested withdrawal of its March 31, 2003, filing in Docket No. RP03-324, et al., relating to a name change with a LLC designation.

Southern Star states that copies of the transmittal letter and appendices (excluding Appendices C and D) are being mailed to Southern Star's jurisdictional customers and interested state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 7, 2003.

Magalie R. Salas,
Secretary.

[FR Doc. 03-11128 Filed 5-5-03; 8:45 am]

BILLING CODE 6717-01-P